ENVIRONMENTAL PROTECTION AGENCY

[ER-FRL-6681-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 7, 2006 (71 FR 17845).

Draft EISs

EIS No. 20060400, ERP No. D-USA-G11048-TX, Fort Sam Houston, Texas Project, Base Realignment and Closure (BRAC) Actions and Other Transformation Activities, Implementation, City of Sam Antonio, TX.

Summary: EPA does not object to the preferred alternative. Rating LO.

Final EISs

EIS No. 20060384, ERP No. F-NRS-E36186-KY, Rockhouse Creek Watershed Plan, To Protect Residential and Non-residential Structures from Recurrent Flood Problem, Leslie County, KY.

Summary: EPA does not object to the proposed action.

EIS No. 20060385, ERP No. F-COE-D01003-WV, Spruce No. 1 Mine, Construction and Operation, Mining for 2.73 Million Ton of Bituminous Coal, NPDES Permit and U.S. Army COE Section 404 Permit, Logan County, WV.

Summary: EPA continues to have environmental concerns about the project's contribution to cumulative impacts in the Little Coal River watershed, and is concerned over the methods used for the stream functional assessment and the ability of the proposed mitigation to offset impacts to the aquatic environment. EPA recommends the development of a collaborative effort with the applicant and other stakeholders to outline an approach to watershed stewardship and restoration efforts.

EIS No. 20060419, ERP No. F-NPS-E65080-KY, Abraham Lincoln Birthplace National Historic Site, General Management Plan, Implementation, LaRue County, KY.

Summary: EPA does not object to the proposed action.

EIS No. 20060429, ERP No. F-UAF-G11053-NM, New Mexico Training Initiative, Proposal to Modify the Training Airspace New Cannon Air Force Base (AFB), NM.

Summary: No formal comment letter was sent to the preparing agency.

EIS No. 20060428, ERP No. FS-STB-J53004-MT, Tongue River III Western Alignment Construction and Operation, Alternative Route for the southern most portion of the 41-mile Ashland to Decker Rail Line, U.S. Army COE Section 404 Permit, Rosebud and Bighorn Counties, MT.

Summary: EPA continues to have environmental concerns about the impacts to water quality, aquatic habitat, wetlands, wildlife habitat, air quality, and cultural resources.

Dated: November 20, 2006.
Robert W. Hargrove,
Director, NEPA Compliance Division, Office of Federal Activities.

[FR Doc. E6-19867 Filed 11-22-06; 8:45 am]

BILLING CODE 6560-50-P